DEPARTMENT OF LABOR

Employment and Training Administration

[TA-W-57,670]

Henkel Corporation; Henkel Technologies Division Olean, NY; Dismissal of Application for Reconsideration

Pursuant to 29 CFR 90.18(C) an application for administrative reconsideration was filed with the Director of the Division of Trade Adjustment Assistance for workers at Henkel Corporation, Henkel Technologies Division, Olean, New York. The application contained no new substantial information which would bear importantly on the Department's determination. Therefore, dismissal of the application was issued.

TA-W-57,670; Henkel Corporation, Henkel Technologies Division, Olean, New York (October 12, 2005).

Signed at Washington, DC this 13th day of October 2005.
Douglas F. Small,
Acting Director, Division of Trade Adjustment Assistance.

[FR Doc. E5-5883 Filed 10-24-05; 8:45 am]

BILLING CODE 4510-30-P